DEPARTMENT OF JUSTICE

Notice of Lodging of Consent Decree Under the Comprehensive Environmental Response, Compensation and Liability Act

In accordance with 28 U.S.C. 50.7 and Section 122 of the Comprehensive Environmental Response, Compensation, and Liability Act (“CERCLA”), 42 U.S.C. 9622, notice is hereby given that on September 25, 2003, a proposed Consent Decree in United States v. Horsehead Industries, Inc. et al., Civil Action No. 3:CV-98-0654, was lodged with the United States District Court for the Middle District of Pennsylvania.

In this action, the United States sought under Section 107 and 113 of CERCLA, 42 U.S.C 9607 and 9613, to recover past and future response costs incurred by EPA at the Palmerton Zinc Pile Superfund Site (“Site”) located in and around the Borough of Palmerton, Carbon County, Pennsylvania.

The Site consists of a broad area impacted by emissions of contaminants from zinc smelting and recovery operations. For purposes of remediation, EPA divided the Site into four operable units. OU-1 consists of approximately 2,000 acres of Blue Mountain defoliated by heavy metals and other airborne contaminants. A portion of the area within OU-1 overlaps the Appalachian Trail and is owned and managed by the Department of the Interior (“DOI”) through the National Park Service (“NPS”). OU-2 consists of an approximately 2½ mile long, ten story high, “Cinder Bank” which is composed of smelting residues and other zinc processing byproducts deposited along the base of Blue Mountain. OU-3 consists of soil contamination in the valley between Blue Mountain and Stoney Ridge, which includes the Borough of Palmerton itself. OU-4 consists primarily of area-wide surface water and groundwater contamination.

The proposed Consent Decree requires Settling Defendants to pay approximately $12.85 million in reimbursement of past response costs incurred by EPA. In addition, Settling Defendant agree to implement the remedial actions at OU-1 and OU-3, and to perform the operation and maintenance activities at OU-2, at a projected costs of $27 million. Settling Defendants also agree to pay DOI $700,000 for past and future costs related to OU-1. Finally, Settling Defendants agree to dismiss counterclaims that they filed against the United States under Sections 107 and 113 of CERCLA. The United States reserves all rights to pursue additional actions against the Settling Defendants with respect to the portions of the Site not addressed in this settlement.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Horsehead Industries, Inc. et al., D.J Ref. 90-11-2-271m.

The Consent Decree may be examined at the Office of the United States Attorney for the Middle District of Pennsylvania, Federal Courthouse Building, 228 Walnut Street, Suite 220, Harrisburg, PA 17108, and at U.S. EPA Region III, U.S. Environmental Protection Agency, 1650 Arch Street, Philadelphia, PA 19103-2029. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Consent Decree from the Consent Decree Library, please enclose a check in the amount of $33.50 (25 cents per page reproduction cost) payable to the U.S. Treasury. Copies of the appendices to the Consent Decree are also available at an additional charge of 25 cents per page.

Robert Brook,
Assistant Chief, Environmental Enforcement Section, Environment and Natural Resources Division.

[FR Doc. 03-25553 Filed 10-7-03; 8:45 am]

BILLING CODE 4410-15-M